FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 31, 2015.

A. Federal Reserve Bank of Dallas (Robert L. Triplett III, Senior Vice President) 2200 North Pearl Street, Dallas, Texas 75201-2272:

1. The Armstrong 2011 Family Trust, Nelba Armstrong, trustee, Emory; Texas; J. Russell Armstrong 2011 GST Trust, John Russell Armstrong, Jr., trustee, both of Commerce, Texas; J. Russell Armstong Trust, John Russell Armstrong, Jr., and Lannette Armstrong Beaver, co-trustees, all of Commerce, Texas; Lannette A. Beaver 2011 GST Trust, Nancy Lannette Armstrong Beaver, trustee, both of Emory, Texas; N. Lannette Armstrong Beaver Trust, John Russell Armstrong, Jr., and Lannette Armstrong Beaver, co-trustees, all of Emory, Texas; John Russell Armstrong, Jr. and Lee Armstrong, both of Commerce, Texas; Matthew Russell Armstrong, Baton Rouge, Louisiana; Lannette Armstrong Beaver, Emory, Texas; Rachel Lee Armstrong, Los Angeles, California; Steve Beaver, Emory, Texas; Ryan Embry Beaver, Nashville, Tennessee; Cody Russell Beaver, Emory, Texas; Brin Ashley Parnell, Waco, Texas; collectively acting as a group in concert, to retain voting shares of Emory Bancshares, Inc., and thereby indirectly retain voting shares of The First National Bank of Emory, both in Emory, Texas.

Board of Governors of the Federal Reserve System, July 13, 2015.
Michael J. Lewandowski,
Associate Secretary of the Board.

[FR Doc. 2015-17419 Filed 7-15-15; 8:45 am]

BILLING CODE 6210-01-P